COMMISSION ON CIVIL RIGHTS

Agenda and Notice of Public Meeting of the Kentucky Advisory Committee

Notice is hereby given, pursuant to the provisions of the rules and regulations of the U.S. Commission on Civil Rights that a meeting of the Kentucky Advisory Committee to the Commission will convene at 1:00 p.m. and adjourn at 5:00 p.m. on April 4, 2001, at the Kentucky Human Rights Office, 332 W. Broadway, Suite 700, Louisville, Kentucky 40202. The purpose of the meeting is to follow up on the Kentucky Title VI law, plan future projects, and discuss civil rights issues of the State and Nation.

Persons desiring additional information, or planning a presentation to the Committee, should contact Bobby D. Doctor, Director of the Southern Regional Office, 404-562-7000 (TDD 404-562-7004). Hearing-impaired persons who will attend the meeting and require the services of a sign language interpreter should contact the Regional Office at least ten (10) working days before the scheduled date of the meeting.

The meeting will be conducted pursuant to the provisions of the rules and regulations of the Commission.

Dated at Washington, DC, February 26, 2001.
Edward A. Hailes, Jr.,
General Counsel.

[FR Doc. 01-5124 Filed 3-1-01; 8:45 am]

BILLING CODE 6335-01-P